DEPARTMENT OF ENERGY

Federal Energy Regulatory Commission

[Docket No. EC02-55-000, et al.]

Trans-Elect, Inc., et al.; Electric Rate and Corporate Regulation Filings

March 13, 2002.

Take notice that the following filings have been made with the Commission. Any comments should be submitted in accordance with Standard Paragraph E at the end of this notice.

1. Trans-Elect, Inc., Michigan Transco Holdings, Limited Partnership, Michigan Electric Transmission Company LLC

[Docket No. EC02-55-000]

Take notice that on March 8, 2002, Trans-Elect, Inc. (Trans-Elect) and Michigan Transco Holdings, Limited Partnership (Michigan Transco Holdings LP), on behalf of Michigan Electric Transmission Company (Michigan Transco LLC) (collectively, Trans-Elect Applicants) submitted an application for approval of the transfer of operational control over the jurisdictional transmission facilities to be acquired by Michigan Transco LLC to the Midwest Independent Transmission System Operator, Inc. (Midwest ISO), and for transfer of certain related transmission service agreements to the Midwest ISO.

Copies of this filing were served on all affected state utility commissions.

Comment Date: March 29, 2002.

2. Alliance Companies, et al. and National Grid USA

[Docket No. EL02-65-000]

Take notice that on March 6, 2002, pursuant to Rule 207 of the Federal Energy Regulatory Commission's (Commission) Rules of Practice and Procedure, 18 CFR 385.207, Ameren Services Company (on behalf of Union Electric Company and Central Illinois Public Service Company), American Electric Power Service Corporation (on behalf of Appalachian Power Company, Columbus Southern Power Company, Indiana Michigan Power Company, Kentucky Power Company, Kingsport Power Company, Ohio Power Company, and Wheeling Power Company), The Dayton Power and Light Company, Exelon Corporation (on behalf of Commonwealth Edison Company and Commonwealth Edison Company of Indiana, Inc.), FirstEnergy Corp. (on behalf of American Transmission Systems, Inc., The Cleveland Electric Illuminating Company, Ohio Edison Company, Pennsylvania Power Company, and The Toledo Edison Company), Illinois Power Company, and Northern Indiana Public Service Company (collectively, the Alliance Companies), and National Grid USA, tendered for filing a petition for the Commission to issue an order finding that the proposed policy resolutions contained in the petition provide an appropriate basis for the participation of Alliance GridCo in the Midwest Regional Transmission Organization (RTO).

Alliance GridCo is the Alliance Transmission Company LLC that will be formed with National Grid USA as managing member, provided the Alliance business model can be successfully accommodated within an RTO. Through this petition, the Alliance Companies and National Grid USA attempt to find a way to accommodate Alliance GridCo as a viable transmission business underneath the Midwest ISO umbrella. Should the Commission believe its policy goals would best be served by having Alliance GridCo operate underneath the Midwest ISO umbrella, and the Commission grants the petition, the Alliance Companies and National Grid USA anticipate that Alliance GridCo would be operational by October 1, 2002.

Comment Date: March 28, 2002.

3. Pacific Gas and Electric Company

[Docket No. ER01-833-000]

Take notice that on March 6, 2002 Pacific Gas and Electric Company filed an amendment to its February 28, 2002 filing for Further Request for Deferral of Consideration of the unexecuted Wholesale Distribution Tariff (WDT) Service Agreement and Interconnection Agreement between Pacific Gas and Electric Company and Modesto Irrigation District (MID).

PG&E requests that the Commission defer consideration of the proceedings filed in ER01-833-000 to August 26, 2002, 180 days beyond the last request for Deferral in order that the parties may finalize and executed the Agreements.

Copies of this filing have been served upon MID, the California Independent System Operator Corporation, and the California Public Utilities Commission.

Comment Date: March 27, 2002.

4. Southern California Edison Company

[Docket No. ER02-1286-000]

Take notice that on March 8, 2002, Southern California Edison Company (SCE) tendered for filing a Service Agreement For Wholesale Distribution Service under SCE's Wholesale Distribution Access Tariff, an Interconnection Facilities Agreement, and a Reliability Management System Agreement (Agreements) between SCE and Ridgewood Olinda, LLC (Ridgewood).

SCE respectfully requests the Agreements become effective on March 11, 2002.

These Agreements specify the terms and conditions under which SCE will interconnect Ridgewood's generating facility to its electrical system and provide Distribution Service for up to 2.4 MW of power produced by the generating facility. Copies of this filing were served upon the Public Utilities Commission of the State of California and Ridgewood.

Comment Date: March 29, 2002.

5. Rainy River Energy Corporation-Taconite Harbor

[Docket No. ER02-1258-000]

Take notice that on March 5, 2002, Rainy River Energy Corporation-Taconite Harbor (RR-TH) file with the Federal Energy Regulatory Commission (Commission) a Power Sales Agreement for short term power sales.

Comment Date: March 26, 2002.

6. Generation Power, Inc.

[Docket No. ER02-894-001]

Take notice that on March 7, 2002, Generation Power, Inc. amended its filing of January 30, 2002, which petitioned the Federal Energy Regulatory Commission (Commission) Commission for acceptance of Generation Power Rate Schedule FERC No. 1; the granting of certain blanket approvals, including the authority to sell electricity at market-based rates; and the waiver of certain Commission regulations.

Generation Power intends to engage in wholesale electric power and energy purchases and sales as a marketer. Generation Power is not in the business of generating or transmitting electric power. Generation Power does not have any affiliates as defined at 18 CFR 161.2.

Comment Date: March 28, 2002.

7. American Transmission Company LLC

[Docket No. ER01-1107-002]

Take notice that on March 7, 2002, American Transmission Company LLC (ATCLLC) tendered for filing a refund report in accordance with the Federal Energy Regulatory Commission's January 30, 2002 letter order in the above-referenced proceeding.

Copies of the refund report have been served on parties to the service list, the Public Service Commission of Wisconsin, the Illinois Commerce Commission, and the Michigan Public Service Commission.

Comment Date: March 28, 2002.

8. Conectiv Energy Supply, Inc.

[Docket No. ER00-1770-004]

Take notice that on March 11, 2002, Conectiv Energy Supply, Inc. (CESI) tendered for filing its triennial market power analysis in support of its market-based rate authority in compliance with the Commission's April 25, 2000, order accepting CESI's updated market-based tariff and Code of Conduct. Conectiv Energy Supply, Inc., 91 FERC ¶ 61,076 (2000). In that proceeding, CESI committed to update its market power analysis within three years of March 10, 1999.

Comment Date: April 1, 2002.

9. UGI Development Company

[Docket No. ER99-2817-001]

Take notice that on March 11, 2002, UGI Development Company (UGID) tendered for filing its triennial market power update.

Comment Date: April 1, 2002.

10. Commonwealth Edison Company

[Docket No. ER02-1283-000]

Take notice that on March 8, 2002, Commonwealth Edison Company (ComEd) submitted for filing two Form of Service Agreements for Firm Point-To-Point Transmission Service and the corresponding Network Upgrade Agreements between ComEd and Madison Gas and Electric Company (Madison) and one Form of Service Agreement for Firm Point-To-Point Transmission Service and the corresponding Network Upgrade Agreement between ComEd and MPEX (collectively, Service Agreements) under the terms of ComEd's Open Access Transmission Tariff (OATT).

ComEd requests an effective date of March 5, 2002, and accordingly seeks waiver of the Commission's notice requirements. A copy of this filing was served on Madison and MPEX.

Comment Date: March 29, 2002.

11. Xcel Energy Services, Inc.

[Docket No. ER02-1284-000]

Take notice that on March 11, 2002, Xcel Energy Services, Inc. (XES), on behalf of Northern States Power Company and Northern States Power Company (Wisconsin) (collectively, NSP) submitted for filing a Form of Service Agreement with South Plains Electric Cooperative, Inc. (South Plains), which is in accordance with NSP's Rate Schedule for Market-Based Power Sales (NSP Companies FERC Electric Tariff, Original Volume No. 6). XES requests that this agreement become effective on March 1, 2002.

Comment Date: April 1, 2002.

12. Cinergy Services, Inc.

[Docket No. ER02-1285-000]

Take notice that on March 8, 2002, that Cinergy Services, Inc. (Cinergy) tendered for filing a proposed Notice of Cancellation with Narrative Statement and revisions to Cinergy's Open Access Transmission Tariff (Cinergy OATT), FERC Electric Tariff, Second Revised Volume No. 5.

Cinergy states that its proposed revisions are intended to cancel the Forms of Service Agreement for Firm Point-to-Point Transmission Service, Non-Firm Point-to-Point Transmission Service and Network Transmission Service, as well as certain transmission-related services with respect thereto, which are no longer necessary due to the start-up of Midwest Independent Transmission System Operator, Inc. and its Open Access Transmission Tariff on February 1, 2002.

Cinergy states that it has served copies of its filing by placing a copy of same in the United States mail, first-class postage prepaid, addressed to all customers under the Cinergy OATT.

Comment Date: March 29, 2002.

13. Entergy Services, Inc.

[Docket No. ER02-1287-000]

Take notice that on March 8, 2002, Entergy Services, Inc. (Entergy Services) submitted for filing on behalf of Entergy Arkansas, Inc. (EAI) a 2002 Wholesale Formula Rate Update (Update) in accordance with: (1) The Power Coordination, Interchange and Transmission Service Agreements (PCITA) between EAI and the Cities of Conway, West Memphis and Osceola Arkansas (Arkansas Cities); the cities of Campbell and Thayer, Missouri (Missouri Cities); and the Arkansas Electric Cooperative Corporation (AECC); (2) the Hydroelectric Power Transmission and Distribution Service Agreement between EAI and the City of North Little Rock, Arkansas (North Little Rock); (3) the Transmission Service Agreement (TSA) between EAI and the City of Hope, Arkansas (Hope); (4) the TSA between EAI and the Louisiana Energy & Power Authority (LEPA); (5) the Wholesale Power Service Agreement (WPSA) between EAI and the City of Prescott, Arkansas (Prescott); and (6) the WPSA between EAI and the Farmers Electric Cooperative Corporation (Farmers). Entergy Services states that the Update redetermines the formula rate charges and the Transmission Loss Factor in accordance with: (1) the above agreements; (2) the 1994 Joint Stipulation between EAI and AECC accepted by the Commission in Docket No. ER95-49-000, as revised by the 24th Amendment to the AECC PCITA on March 26, 1996 in Docket No. ER96-1116; (3) the formula rate revisions accepted by the Commission on February 21, 1995 in Docket No. ER95-393-000, as applicable to the Arkansas Cities, the Missouri Cities, Hope and North Little Rock; (4) the formula rate revisions applicable to LEPA accepted by the Commission on January 10, 1997 in Docket No. ER97-257-000; and (5) the Settlement Agreement accepted by the Commission on July 2, 1999 in Docket No. ER98-2028-000 (the 1998 Formula Rate Update proceeding).

Comment Date: March 29, 2002.

14. PPL Electric Utilities Corporation

[Docket No. ER02-1288-000]

Take notice that on March 8, 2002, PPL Electric Utilities Corporation (PPL Electric Utilities) tendered for filing an Interconnection Agreement between PPL Electric Utilities and the Mt. Carmel Cogen, Inc.

Comment Date: March 29, 2002.

15. Midwest Independent Transmission System Operator, Inc., Trans-Elect, Inc., Michigan Transco Holdings, Limited Partnership and Michigan Electric Transmission Company LLC

[Docket No. ER02-1289-000]

Take notice that on March 8, 2002, the Midwest Independent Transmission System Operator, Inc. (Midwest ISO), and Trans-Elect, Inc. and Michigan Transco Holdings, Limited Partnership, on behalf of Michigan Electric Transmission Company LLC (Michigan Transco LLC) (collectively, Trans-Elect Applicants), filed pursuant to section 205 of the Federal Power Act for Commission approval or acceptance of certain changes to the Midwest ISO's open access transmission tariff (Midwest ISO Tariff) to recognize Michigan Transco LLC's participation as a transmission owner in the Midwest ISO and to establish rates for the Michigan Transco LLC pricing zone. The Midwest ISO and Trans-Elect Applicants also filed a supplemental agreement to establish certain conditions for Michigan Transco LLC's participation in the Midwest ISO.

Copies of this filing were served on all affected state utility commissions and transmission customers, as well as on all members of the Midwest ISO.

Comment Date: March 29, 2002.

16. Central Power and Light Company

[Docket No. ER02-1290-000]

Take notice that on March 8, 2002, Central Power and Light Company (CPL) submitted for filing First Revised Rate Schedule No. 70 with the City of Robstown, Texas (Robstown).

CPL seeks an effective date of April 1, 2002 and, accordingly, seeks waiver of the Commission's notice requirements. CPL states that a copy of this filing has been served on Robstown and the Public Utilities Commission of Texas.

Comment Date: March 29, 2002.

17. Entergy Services, Inc.

[Docket No. ER02-1293-000]

Take notice that on March 8, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and NRG Power Marketing Inc.

Comment Date: March 29, 2002.

18. Ameren Energy, Inc. on Behalf of Union Electric Company d/b/a AmerenUE and Ameren Energy Generating Company

[Docket No. ER02-1294-000]

Take notice that on March 8, 2002, Ameren Energy, Inc. (Ameren Energy), on behalf of Union Electric Company d/b/a AmerenUE and Ameren Energy Generating Company (collectively, the Ameren Parties), pursuant to section 205 of the Federal Power Act, 16 USC 824d, and the market rate authority granted to the Ameren Parties, submitted for filing umbrella power sales service agreements under the Ameren Parties' market rate authorizations entered into with Williams Energy Marketing & Trading Company.

Ameren Energy seeks Commission acceptance of these service agreements effective February 22, 2002. Copies of this filing were served on the public utilities commissions of Illinois and Missouri and the counterparty.

Comment Date: March 29, 2002.

19. Progress Energy Inc. on Behalf of Progress Ventures, Inc.

[Docket No. ER02-1295-000]

Take notice that on March 8, 2002, Progress Ventures, Inc. (Progress Ventures) tendered for filing an executed Service Agreement between Progress Ventures and the following eligible buyer, Aquila Energy Marketing Corporation. Service to this eligible buyer will be in accordance with the terms and conditions of Progress Ventures Market-Based Rates Tariff, FERC Electric Tariff No. 1.

Progress Ventures requests an effective date of March 6, 2002 for this Service Agreement. Copies of the filing were served upon the North Carolina Utilities Commission, the South Carolina Public Service Commission, the Florida Public Service Commission and the Georgia Public Service Commission.

Comment Date: March 29, 2002.

20. Puget Sound Energy, Inc.

[Docket No. ER02-1296-000]

Take notice that on March 8, 2002, Puget Sound Energy, Inc. (PSE), tendered for filing a Port Townsend Area Transmission Agreement by Public Utility District No. 1 of Clallam County (Clallam), Port Townsend Paper Corporation (Port Townsend Paper), and PSE. A copy of the filing was served upon Clallam and Port Townsend Paper.

Comment Date: March 29, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6653 Filed 3-19-02; 8:45 am]

BILLING CODE 6717-01-P